ENVIRONMENTAL PROTECTION AGENCY

[EPA-R10-OAR-2020-0724; FRL-8863-01-OMS]

Information Collection Request Submitted to OMB for Review and Approval; Comment Request; Federal Implementation Plans Under the Clean Air Act for Indian Reservations in Idaho, Oregon and Washington (Renewal)

AGENCY: Environmental Protection Agency (EPA).

ACTION: Notice.

SUMMARY: The Environmental Protection Agency (EPA) has submitted an information collection request (ICR), Federal Implementation Plans under the Clean Air Act for Indian Reservations in Idaho, Oregon and Washington (EPA ICR Number 2020.08, OMB Control Number 2060-0558), to the Office of Management and Budget (OMB) for review and approval in accordance with the Paperwork Reduction Act. This is a proposed extension of the ICR, which is currently approved through August 31, 2021. Public comments were previously requested via the Federal Register on February 12, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before September 13, 2021.

ADDRESSES: Submit your comments to EPA, referencing Docket ID No. EPA-R10-OAR-2020-0724, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Sarah Frederick, Region 10 Air and Radiation Division, telephone number: (206) 553-1601; email address: Frederick.Sarah@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA promulgated Federal Implementation Plans (FIPs) under the Clean Air Act for Indian reservations located in Idaho, Oregon, and Washington in 40 CFR part 49 (70 FR 18074, April 8, 2005). The FIPs in the final rule, also referred to as the Federal Air Rules for Indian Reservations in Idaho, Oregon, and Washington (FARR), include information collection requirements associated with the partial delegation of administrative authority to a Tribe in 40 CFR 49.122; the rule for limiting visible emissions at 40 CFR 49.124; fugitive particulate matter rule in 40 CFR 49.126; the wood waste burner rule in 40 CFR 49.127; the rule for limiting sulfur in fuels in 40 CFR 49.130; the rule for open burning in 40 CFR 49.131; the rules for general open burning permits, agricultural burning permits, and forestry and silvicultural burning permits in 40 CFR 49.132, 49.133, and 49.134; the rule for emissions detrimental to human health and welfare in 40 CFR 49.135; the registration rule in 40 CFR 49.138; and the rule for non-title V operating permits in 40 CFR 49.139. EPA uses this information to manage the activities and sources of air pollution on the Indian reservations in Idaho, Oregon, and Washington. EPA believes these information collection requirements are appropriate because they will enable EPA to develop and maintain accurate records of air pollution sources and their emissions, track emissions trends and changes, identify potential air quality problems, allow EPA to issue permits or approvals, and ensure appropriate records are available to verify compliance with these FIPs. The information collection requirements listed above are all mandatory. Regulated entities can assert claims of business confidentiality and EPA will address these claims in accordance with the provisions of 40 CFR part 2, subpart B.

Form Numbers:

EPA Form 7630-1 Nez Perce Reservation Air Quality Permit: Agricultural Burn

EPA Form 7630-2 Nez Perce Reservation Air Quality Permit: Forestry Burn

EPA Form 7630-3 Nez Perce Reservation Air Quality Permit: Large Open Burn

EPA Form 7630-4 Initial or Annual Source Registration

EPA Form 7630-5 Report of Change of Ownership

EPA Form 7630-6 Report of Closure

EPA Form 7630-7 Report of Relocation

EPA Form 7630-8 Small Burn Air Quality Permit Application

EPA Form 7630-9 Non-Title V Operating Permit Application Form

EPA Form 7630-10 Umatilla Indian Reservation: Agricultural Burn Permit Application

EPA Form 7630-11 Umatilla Indian Reservation: Forestry Burn Permit Application

EPA Form 7630-12 Umatilla Indian Reservation: Large Open Burn Permit Application

EPA Form 5800-057 FARR Online Reporting System Initial or Annual Source Registration

Respondents/affected entities: Owners and operators of air emission sources in all industry groups and tribal governments, located in the identified Indian reservations.

Respondent's obligation to respond: Mandatory.

Estimated number of respondents: 1,732 (total).

Frequency of response: Annual or occasional.

Total estimated burden: 3,601 hours (per year). Burden is defined at 5 CFR 1320.03(b).

Total estimated cost: $286,888 (per year), includes $0 annualized capital or operation & maintenance costs.

Changes in the Estimates: There is decrease of 614 hours in the total estimated respondent burden compared with the ICR currently approved by OMB. This decrease is based on input from source consultations, supersedence of the provisions of one rule (49.139), and information we have learned about the source universe through implementing the rules since the ICR was updated in 2018.

Courtney Kerwin,
Director, Regulatory Support Division.

[FR Doc. 2021-17315 Filed 8-12-21; 8:45 am]

BILLING CODE 6560-50-P